DEPARTMENT OF HEALTH AND HUMAN SERVICES

Food and Drug Administration

21 CFR Chapter I

Change of Address; Technical Amendment

AGENCY: Food and Drug Administration, HHS.

ACTION: Final rule; technical amendment.

SUMMARY: The Food and Drug Administration (FDA) is amending its regulations to remove references to certain room numbers that no longer are valid because the address of the Center for Food Safety and Applied Nutrition (CFSAN) changed to 5100 Paint Branch Pkwy., College Park, MD, on December 14, 2001. FDA also is amending its regulations to remove a reference to an alternate site for submissions of documents to the Docket Management Branch. This alternate site is no longer available effective December 14, 2001. This action is editorial in nature and is intended to improve the accuracy and clarity of the agency's regulations.

EFFECTIVE DATE: December 14, 2001.

FOR FURTHER INFORMATION CONTACT: Louis B. Brock, Office of Regulations and Policy, Center for Food Safety and Applied Nutrition (HFS-24), 5100 Paint Branch Pkwy., College Park, MD, 20740-3835, 301-436-2378.

SUPPLEMENTARY INFORMATION: In the Federal Register of November 6, 2001 (66 FR 56034), FDA amended its regulations to reflect that on December 14, 2001, CFSAN's address was changed to 5100 Paint Branch Pkwy., College Park, MD 20740. This change of address will make room numbers cited in certain regulations invalid. Therefore, FDA is amending its regulations in 21 CFR parts 73, 101, 172, 173, 177, 178, and 184 to remove the phrase “rm. 3321” wherever it appears. FDA also is amending 21 CFR 10.20(f) to add a period after “20857” and to remove the following phrase: “, except that a submission which is required to be received by the Branch by a specified date may be delivered in person to the FDA building in Washington (Room 6819, 200 C Street, SW., Washington, DC 20204) and will be considered as received by the Branch on the date on which it is delivered.” This alternate site, originally provided for the convenience of the public, is no longer available because CFSAN's address has changed to College Park.

Publication of this document constitutes final action on these changes under the Administrative Procedure Act (5 U.S.C. 553). Notice and public procedure are unnecessary because FDA is merely correcting nonsubstantive errors.

Therefore, under the Federal Food, Drug, and Cosmetic Act and under authority delegated to the Commissioner of Food and Drugs, 21 CFR chapter I is amended as follows:

1. Section 10.20(f) is amended by adding a period after “20857” and by removing the rest of the sentence.

2. Parts 73, 101, 172, 173, 177, 178, and 184 are amended by removing the words “rm. 3321” wherever they appear.

Dated: December 19, 2001.
Margaret M. Dotzel,
Associate Commissioner for Policy.

[FR Doc. 01-31714 Filed 12-26-01; 8:45 am]

BILLING CODE 4160-01-S